DEPARTMENT OF TRANSPORTATION

Federal Highway Administration

Notice To Rescind a Notice of Intent To Prepare a Supplemental Draft Environmental Impact Statement (SDEIS): Pulaski County, AK

AGENCY: Federal Highway Administration (FHWA), DOT.

ACTION: Rescind Notice of Intent to prepare a SDEIS.

SUMMARY: The FHWA is issuing this notice to advise the public that the Notice of Intent published on February 18, 1999 to prepare a Supplemental Draft Environmental Impact Statement (SDEIS) for a proposed highway project in Pulaski County, Arkansas is being rescinded.

FOR FURTHER INFORMATION CONTACT: Randal J. Looney, Environmental Specialist, Federal Highway Administration, Arkansas Division, 700 West Capitol Avenue, Room 3130, Little Rock, Arkansas 72201-3298, Telephone: (501) 324-6430.

SUPPLEMENTARY INFORMATION:

Background

The FHWA, in cooperation with the Arkansas Highway and Transportation Department, is rescinding the notice of intent to prepare a Supplemental Draft Environmental Impact Statement (SDEIS) on a proposal to construct the North Belt Freeway, a four-lane, divided, fully controlled access facility located on new alignment in northern Pulaski County.

In 1994, a Final Environmental Impact Statement (FEIS) and a Record of Decision (ROD) identified a selected alignment (1A). However, a portion of this alignment was not compatible with the City of Sherwood's Master Street Plan, and the project was not included in the Transportation Improvement Program (TIP) developed by Metroplan, the responsible Metropolitan Planning Organization (MPO). On February 18, 1999, FHWA published a NOI to prepare a SDEIS as part of the development process for the construction of this proposed freeway project.

The proposed project will primarily serve central Arkansas including Little Rock, North Little Rock, Sherwood, Jacksonville, and northern Pulaski County, Arkansas. The SDEIS was to have addressed a new alignment alternative (1B) proposed by the City of Sherwood and three previously studied alternatives located between the Highway 107/Brockington Road interchange and the eastern boundary of Camp Robinson near Maryland Avenue and Batesville Pike. The three previously studied alternatives were evaluated in the project's Draft EIS in 1991 and in the project's Final EIS in 1994.

The SDEIS was to focus on a limited study are between Batesville Pike and Brockington Road in northern Pulaski County, since this is the portion of the proposed corridor where several alternative alignments were still being considered. The remaining portions of the selected and approved North Belt Freeway alignment to the east toward Highway 67 and to the west through Camp Robinson ending at the I-40/I-430 interchange were to be reviewed only to a level necessary to document if any substantial changes have taken place since the completion and approval of the project's FEIS and ROD.

A preliminary study of the project alignments completed in 2003 attempted to establish if the local community and MPO could support the originally selected project alternative. The public involvement process associated with this reevaluation indicated public opposition for the originally selected alignment alternative. The City of Sherwood and Metroplan, citing the project's incompatibility with local and regional plans, refused to endorse the originally selected alignment alternative as the locally preferred route. Therefore, an SDEIS will be conducted to evaluate all feasible alternatives, possibly including alignments not evaluated in the project's original DEIS and FEIS. The original NOI for the SDEIS is being rescinded because it limited the area of study. A notice of intent to announce an SDEIS with an expanded study area for this project will be published subsequent to this NOI.

To ensure that the full range of issues related to this proposed action and all significant issues are identified, comments and suggestions are invited from all interested parties regarding this action to rescind the NOI published on February 18, 1999 for the proposed North Belt Freeway. Comments or questions concerning this proposed action should be directed to the FHWA Arkansas Division at the address provided above.

(Catalog of Federal Domestic Assistance Program Number 20.205, Highway Planning and Construction. The regulations implementing Executive Order 12372 regarding intergovernmental consultation of Federal programs and activities apply to this program.
Issued on: March 16, 2004.
Sandra L. Otto,
Division Administrator, FHWA, Little Rock, Arkansas.

[FR Doc. 04-6809 Filed 3-25-04; 8:45 am]

BILLING CODE 4910-22-M